DEPARTMENT OF TRANSPORTATION

Federal Aviation Administration

14 CFR Part 97

[Docket No. 31041; Amdt. No. 3664]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective October 16, 2015. The compliance date for each SIAP, associated Takeoff Minimums, and ODP is specified in the amendatory provisions.

The incorporation by reference of certain publications listed in the regulations is approved by the Director of the Federal Register as of October 16, 2015.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFRs, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and/or ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore— (1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on September 25, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC Number | FDC Date | Subject
12-Nov-15 | IL | Champaign/Urbana | University Of Illinois-Willard | 5/0256 | 09/17/15 | RADAR 1, Amdt 6B.
12-Nov-15 | TX | Fredericksburg | Gillespie County | 5/0259 | 09/17/15 | RNAV (GPS) RWY 32, Amdt 1B.
12-Nov-15 | KS | Atchison | Amelia Earhart | 5/0276 | 09/17/15 | VOR/DME RNAV OR GPS RWY 16, Amdt 4A.
12-Nov-15 | KS | Atchison | Amelia Earhart | 5/0277 | 09/17/15 | VOR/DME RWY 16, Orig-A.
12-Nov-15 | MI | Traverse City | Cherry Capital | 5/0652 | 09/08/15 | NDB RWY 28, Amdt 11.
12-Nov-15 | TX | Harlingen | Valley Intl | 5/0916 | 09/08/15 | VOR/DME RWY 17L, Orig.
12-Nov-15 | MI | Holland | West Michigan Rgnl | 5/1847 | 09/17/15 | RNAV (GPS) RWY 8, Amdt 2B.
12-Nov-15 | WI | Middleton | Middleton Muni-Morey Field | 5/1853 | 09/17/15 | VOR RWY 10, Amdt 1A.
12-Nov-15 | WI | Prairie Du Chien | Prairie Du Chien Muni | 5/1859 | 09/17/15 | RNAV (GPS) RWY 14, Orig-B.
12-Nov-15 | AL | Andalusia/Opp | South Alabama Rgnl At Bill Benton Field | 5/1900 | 09/17/15 | RNAV (GPS) RWY 29, Amdt 2A.
12-Nov-15 | AL | Andalusia/Opp | South Alabama Rgnl At Bill Benton Field | 5/1901 | 09/17/15 | RNAV (GPS) RWY 11, Amdt 2A.
12-Nov-15 | KS | Garden City | Garden City Rgnl | 5/2041 | 09/17/15 | VOR/DME RWY 12, Orig-A.
12-Nov-15 | KS | Garden City | Garden City Rgnl | 5/2043 | 09/17/15 | VOR RWY 17, Amdt 11.
12-Nov-15 | KS | Garden City | Garden City Rgnl | 5/2045 | 09/17/15 | VOR/DME RWY 17, Amdt 2.
12-Nov-15 | KS | Garden City | Garden City Rgnl | 5/2047 | 09/17/15 | VOR/DME RWY 30, Amdt 1.
12-Nov-15 | ME | Waterville | Waterville Robert Lafleur | 5/2143 | 09/17/15 | RNAV (GPS) RWY 5, Amdt 1.
12-Nov-15 | ME | Waterville | Waterville Robert Lafleur | 5/2145 | 09/17/15 | ILS OR LOC/DME RWY 5, Amdt 4.
12-Nov-15 | TN | Bristol/Johnson/Kingsport | Tri-Cities Rgnl Tn/Va | 5/2692 | 09/16/15 | RNAV (GPS) RWY 5, Amdt 1A.
12-Nov-15 | TX | Madisonville | Madisonville Muni | 5/2950 | 09/08/15 | RNAV (GPS) RWY 18, Orig-A.
12-Nov-15 | TX | Madisonville | Madisonville Muni | 5/2951 | 09/08/15 | RNAV (GPS) RWY 36, Orig.
12-Nov-15 | TX | Madisonville | Madisonville Muni | 5/2952 | 09/08/15 | VOR/DME RWY 18, Amdt 2A.
12-Nov-15 | NC | Lincolnton | Lincolnton-Lincoln County Rgnl | 5/3181 | 09/08/15 | NDB RWY 23, Amdt 3A.
12-Nov-15 | NC | Lincolnton | Lincolnton-Lincoln County Rgnl | 5/3184 | 09/08/15 | RNAV (GPS) RWY 5, Amdt 1A.
12-Nov-15 | TX | Athens | Athens Muni | 5/3455 | 09/10/15 | NDB RWY 35, Amdt 4C.
12-Nov-15 | PA | Allentown | Lehigh Valley Intl | 5/3648 | 09/08/15 | RNAV (GPS) RWY 13, Amdt 1.
12-Nov-15 | PA | Allentown | Lehigh Valley Intl | 5/3649 | 09/08/15 | RNAV (GPS) RWY 31, Amdt 2.
12-Nov-15 | PA | Allentown | Lehigh Valley Intl | 5/3656 | 09/08/15 | ILS OR LOC RWY 6, Amdt 23.
12-Nov-15 | PA | Allentown | Lehigh Valley Intl | 5/3659 | 09/08/15 | RNAV (GPS) RWY 6, Amdt 1.
12-Nov-15 | PA | Allentown | Lehigh Valley Intl | 5/3662 | 09/08/15 | ILS OR LOC/DME RWY 24, Amdt 1.
12-Nov-15 | PA | Allentown | Lehigh Valley Intl | 5/3663 | 09/08/15 | RNAV (GPS) RWY 24, Amdt 1.
12-Nov-15 | MN | Faribault | Faribault Muni | 5/4326 | 09/08/15 | RNAV (GPS) RWY 30, Amdt 1A.
12-Nov-15 | MN | Faribault | Faribault Muni | 5/4327 | 09/08/15 | RNAV (GPS) RWY 12, Amdt 1A.
12-Nov-15 | ND | Fargo | Hector Intl | 5/4329 | 09/08/15 | RNAV (GPS) RWY 9, Amdt 1A.
12-Nov-15 | ND | Fargo | Hector Intl | 5/4330 | 09/08/15 | RNAV (GPS) RWY 27, Amdt 1A.
12-Nov-15 | ND | Fargo | Hector Intl | 5/4339 | 09/08/15 | ILS OR LOC RWY 18, Orig-A.
12-Nov-15 | ND | Fargo | Hector Intl | 5/4340 | 09/08/15 | RNAV (GPS) RWY 18, Amdt 1.
12-Nov-15 | ND | Fargo | Hector Intl | 5/4341 | 09/08/15 | VOR/DME OR TACAN RWY 18, Amdt 1B.
12-Nov-15 | ND | Fargo | Hector Intl | 5/4366 | 09/08/15 | RNAV (GPS) RWY 36, Orig-A.
12-Nov-15 | ND | Fargo | Hector Intl | 5/4367 | 09/08/15 | VOR OR TACAN RWY 36, Orig-B.
12-Nov-15 | ND | Fargo | Hector Intl | 5/4368 | 09/08/15 | ILS OR LOC RWY 36, Amdt 1A.
12-Nov-15 | OH | Port Clinton | Carl R Keller Field | 5/4485 | 09/17/15 | Takeoff Minimums and (Obstacle) DP, Amdt 6.
12-Nov-15 | PA | Reedsville | Mifflin County | 5/4779 | 09/08/15 | RNAV (GPS) RWY 6, Orig.
12-Nov-15 | PA | Reedsville | Mifflin County | 5/4780 | 09/08/15 | LOC RWY 6, Amdt 8A.
12-Nov-15 | PA | Reedsville | Mifflin County | 5/4781 | 09/08/15 | RNAV (GPS) RWY 24, Orig.
12-Nov-15 | FL | Williston | Williston Muni | 5/4932 | 09/09/15 | RNAV (GPS) RWY 23, Orig.
12-Nov-15 | FL | Williston | Williston Muni | 5/4933 | 09/09/15 | RNAV (GPS) RWY 5, Orig.
12-Nov-15 | FL | Williston | Williston Muni | 5/4936 | 09/09/15 | VOR RWY 23, Amdt 1.
12-Nov-15 | SC | Newberry | Newberry County | 5/6291 | 09/10/15 | RNAV (GPS) RWY 22, Orig.
12-Nov-15 | SC | Newberry | Newberry County | 5/6292 | 09/10/15 | NDB RWY 22, Amdt 6A.
12-Nov-15 | SC | Newberry | Newberry County | 5/6293 | 09/10/15 | RNAV (GPS) RWY 4, Orig.
12-Nov-15 | FL | Marathon | The Florida Keys Marathon | 5/6806 | 09/10/15 | Takeoff Minimums and (Obstacle) DP, Amdt 1A.
12-Nov-15 | GA | Vidalia | Vidalia Rgnl | 5/6816 | 09/10/15 | RNAV (GPS) RWY 25, Amdt 2.
12-Nov-15 | AZ | Nogales | Nogales Intl | 5/7101 | 09/10/15 | NDB OR GPS-C, Amdt 2C.
12-Nov-15 | AZ | Nogales | Nogales Intl | 5/7102 | 09/10/15 | VOR OR GPS-A, Amdt 3B.
12-Nov-15 | AZ | Nogales | Nogales Intl | 5/7103 | 09/10/15 | VOR/DME OR GPS-B, Amdt 2B.
12-Nov-15 | KS | Mc Pherson | Mc Pherson | 5/7358 | 09/17/15 | RNAV (GPS) RWY 18, Orig.
12-Nov-15 | KS | Mc Pherson | Mc Pherson | 5/7359 | 09/17/15 | RNAV (GPS) RWY 36, Orig.
12-Nov-15 | KS | Mc Pherson | Mc Pherson | 5/7360 | 09/17/15 | VOR/DME RWY 36, Amdt 6.
12-Nov-15 | TN | Bristol/Johnson/Kingsport | Tri-Cities Rgnl Tn/Va | 5/7392 | 09/16/15 | RNAV (GPS) RWY 23, Amdt 1A.
12-Nov-15 | TN | Bristol/Johnson/Kingsport | Tri-Cities Rgnl Tn/Va | 5/7417 | 09/16/15 | ILS OR LOC RWY 5, Amdt 3A.
12-Nov-15 | IA | Mason City | Mason City Muni | 5/7778 | 09/08/15 | RNAV (GPS) RWY 36, Amdt 1A.
12-Nov-15 | IA | Mason City | Mason City Muni | 5/7807 | 09/08/15 | Takeoff Minimums and (Obstacle) DP, Orig.
12-Nov-15 | FL | Palm Coast | Flagler County | 5/8047 | 09/10/15 | Takeoff Minimums and (Obstacle) DP, Amdt 1.
12-Nov-15 | FL | Palm Coast | Flagler County | 5/8048 | 09/10/15 | RNAV (GPS) RWY 6, Amdt 1B.
12-Nov-15 | FL | Palm Coast | Flagler County | 5/8049 | 09/10/15 | RNAV (GPS) RWY 11, Amdt 1A.
12-Nov-15 | FL | Palm Coast | Flagler County | 5/8056 | 09/10/15 | RNAV (GPS) RWY 24, Orig-C.
12-Nov-15 | FL | Palm Coast | Flagler County | 5/8058 | 09/10/15 | RNAV (GPS) RWY 29, Orig-C.
12-Nov-15 | WI | Manitowish Waters | Manitowish Waters | 5/8448 | 09/10/15 | RNAV (GPS) RWY 32, Orig.
12-Nov-15 | WI | Manitowish Waters | Manitowish Waters | 5/8450 | 09/10/15 | RNAV (GPS) RWY 14, Orig.
12-Nov-15 | MI | West Branch | West Branch Community | 5/8471 | 09/10/15 | RNAV (GPS) RWY 9, Orig.
12-Nov-15 | MI | West Branch | West Branch Community | 5/8474 | 09/10/15 | RNAV (GPS) RWY 27, Orig.
12-Nov-15 | MI | West Branch | West Branch Community | 5/8476 | 09/10/15 | VOR RWY 27, Orig-E.
12-Nov-15 | OH | Columbus | Rickenbacker Intl | 5/9069 | 09/16/15 | ILS OR LOC RWY 5L, Amdt 1A.
12-Nov-15 | KY | Bardstown | Samuels Field | 5/9073 | 09/16/15 | RNAV (GPS) RWY 2, Orig.
12-Nov-15 | KY | Bardstown | Samuels Field | 5/9076 | 09/16/15 | RNAV (GPS) RWY 20, Orig.
12-Nov-15 | GA | Lagrange | Lagrange-Callaway | 5/9119 | 09/17/15 | RNAV (GPS) RWY 31, Orig-A.
12-Nov-15 | GA | Lagrange | Lagrange-Callaway | 5/9125 | 09/17/15 | ILS OR LOC RWY 31, Amdt 2.
12-Nov-15 | MN | Ely | Ely Muni | 5/9213 | 09/10/15 | RNAV (GPS) RWY 30, Amdt 1A.

[FR Doc. 2015-25553 Filed 10-15-15; 8:45 am]

BILLING CODE 4910-13-P